DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special

Emphasis Panel, CM-9 (01) Cryopreservation of Germplasm.

Date: October 1, 2008.

Time: 8 a.m. to 5 p.m.

Agenda: To review and evaluate grant applications

Place: Hilton Washington DC/Rockville Hotel, Executive Meeting Center, 1750 Rockville Pike, Rockville, MD 20852.

Contact Person: Bonnie Dunn, PhD., Scientific Review Officer, Office of Review, National Center for Research Resources, National Institutes of Health, 6705 Democracy Blvd., Dem. 1, ROOM 1074, MSC 4874, Bethesda, MD 20892-4874, 301-435-0824, dunnbo@mail.nih.gov.

Name of Committee: National Center for Research Resources Initial, Review Group Comparative Medicine Review Committee.

Date: October 9-10, 2008.

Time: 8 a.m. to 5 p.m.

Agenda: To review and evaluate grant applications.

Place: Hyatt Regency Bethesda, One Bethesda Metro Center, 7400 Wisconsin Avenue, Bethesda, MD 20814.

Contact Person: John R. Glowa, PhD., Scientific Review Officer, National Center for Research Resources, OR, National Institutes Of Health, 6701 Democracy Blvd., 1 Democracy Plaza, ROOM 1078, MSC 4874, Bethesda, MD 20892-4874, 301-435-0807, glowaj@mail.nih.gov.

Name of Committee: National Center for Research Resources Special Emphasis Panel, STRB SEP.

Date: October 15, 2008.

Time: 1 p.m. to 4 p.m.

Agenda: To review and evaluate grant applications.

Place: National Institutes of Health, One Democracy Plaza, 6701 Democracy Boulevard, Bethesda, MD 20892 (Telephone Conference Call).

Contact Person: Martha F. Matocha, PhD., Scientific Review Officer, Office of Review, National Center for Research Resources, National Institutes of Health, 6701 Democracy Blvd., 1 Democracy Plaza, Rm. 1070, Bethesda, MD 20892, 301-435-0810, matocham@mail.nih.gov.

Name of Committee: National Center for Research Resources Special Emphasis Panel, RCMI SEP.

Date: October 15, 2008.

Time: 1 p.m. to 4 p.m.

Agenda: To review and evaluate grant applications.

Place: National Institutes of Health, One Democracy Plaza, 6701 Democracy Boulevard, Bethesda, MD 20892 (Telephone Conference Call).

Contact Person: Steven Birken, PhD., Scientific Review Officer, Senior Research Scientist, Department of Medicine, College of Physicians & Surgeons, Columbia University, 630 W. 168th Street, B 1006, New York, NY 10032, (212) 305-5755, sb18@columbia.edu.

Name of Committee: National Center for Research Resources Special Emphasis Panel, INBRE SEP.

Date: October 16-17, 2008.

Time: 8 a.m. to 5 p.m.

Agenda: To review and evaluate grant applications.

Place: Hyatt Regency Bethesda, One Bethesda Metro Center, 7400 Wisconsin Avenue, Bethesda, MD 20814.

Contact Person: John R. Glowa, PhD., Scientific Review Officer, National Center for Research Resources, or National Institutes of Health, 6701 Democracy Boulevard, 1 Democracy Plaza, Room 1078—MSC 4874, Bethesda, MD 20892-4874, 301-435-0807, gIowaj@mail.nih.gov.

Name of Committee: National Center for Research Resources Special Emphasis Panel, Biotechnology Review 2008-02.

Date: October 28-29, 2008.

Time: 8 a.m. to 5 p.m.

Agenda: To review and evaluate grant applications.

Place: Gaithersburg Marriott Washingtonian Center, 9751 Washingtonian Boulevard, Gaithersburg, MD 20878.

Contact Person: Steven Birken, PhD., Scientific Review Officer, National Center for Research Resources, or National Institutes of Health, 6701 Democracy Blvd., 1 Democracy Plaza, Room 1078, MSC 4874, Bethesda, MD 20892-4874, 301-435-0815, birkens@mail.nih.gov.

(Catalogue of Federal Domestic Assistance Program Nos. 93.306, Comparative Medicine; 93.333, Clinical Research; 93.371, Biomedical Technology; 93.389, Research Infrastructure, 93.306, 93.333, National Institutes of Health, HHS)

Dated: August 1, 2008.
Jennifer Spaeth,
Director, Office of Federal Advisory Committee Policy.

[FR Doc. E8-18269 Filed 8-8-08; 8:45 am]

BILLING CODE 4140-01-M